DEPARTMENT OF TRANSPORTATION

Federal Aviation Administration

14 CFR Parts 25, 91, 121, 125, and 129

[Docket No. FAA-2004-18379; Notice No. 05-08]

RIN 2120-AI31

Enhanced Airworthiness Program for Airplane Systems/Fuel Tank Safety (EAPAS/FTS)

AGENCY: Federal Aviation Administration (FAA), DOT.

ACTION: Alignment of compliance times for EAPAS and FTS.

SUMMARY: On October 6, 2005, the FAA published the “Enhanced Airworthiness Program for Airplane Systems/Fuel Tank Safety (EAPAS/FTS)” proposed rule. This proposal includes a discussion about our intent to coordinate the Instructions for Continued Airworthiness (ICA) for fuel tank system and electrical wiring interconnection systems (EWIS) to avoid redundancies in those ICA. It also discusses our intent to align the compliance dates for operators to include those ICA in their maintenance programs. The purpose of this document is to advise industry that while we still intend to avoid redundancies in the fuel tank system and EWIS ICA, it is no longer practical to align the compliance dates to incorporate those ICA into operator maintenance programs. As a result, the December 16, 2008 compliance date in the fuel tank safety operational rules remains firm, and industry should proceed with the necessary plans to meet this date.

DATES: The mandatory compliance date for airline operators to comply with the fuel tank safety operational rules is December 16, 2008.

FOR FURTHER INFORMATION CONTACT: Stephen Slotte, ANM-111, Airplane & Flight Crew Interface, Federal Aviation Administration, 1601 Lind Avenue, SW., Renton, WA 98055-4056; telephone (425) 227-2315; facsimile (425) 227-1320, e-mail steve.slotte@faa.gov (certification rules) or Fred Sobeck, AFS-304, Aircraft Maintenance Division, Federal Aviation Administration, 800 Independence Avenue, SW., Washington, DC 20591; telephone: (202) 267-7355; facsimile (202) 267-7335, e-mail frederick.sobeck@faa.gov (operating rules).

SUPPLEMENTARY INFORMATION:

Background

On May 7, 2001, the FAA issued the “Transport Airplane Fuel Tank System Design Review, Flammability Reduction, and Maintenance and Inspection Requirements” final rule.¹ The operational portion of this rule, called “Fuel Tank Safety Rule,” requires operators of affected transport category airplanes to include fuel tank system maintenance and inspection instructions in their existing maintenance programs by a specified date. This final rule also included a Special Federal Aviation Regulation (SFAR) component, called SFAR 88, which applies to design approval holders (DAHs). SFAR 88 requires DAHs, among other things, to develop the fuel tank system maintenance and inspection instructions that operators need to include in their maintenance programs.

¹ 66 FR 23086.

On July 30, 2004, the FAA published the “Fuel Tank Safety Compliance Extension (Final Rule) and Aging Airplane Program Update (Request for Comments)” final rule.² That action revised the compliance date for fuel tank safety operational rules to December 16, 2008.

² 69 FR 45936.

On October 6, 2005, the FAA published the “Enhanced Airworthiness Program for Airplane Systems and Fuel Tank Safety (EAPAS/FTS)” proposal.³ In that proposed rule, we discussed our intent to coordinate the Instructions for Continued Airworthiness (ICA) for fuel tank system and electrical wiring interconnection systems (EWIS). The intent of this approach is to facilitate a more comprehensive treatment of those ICA and accomplish maintenance instructions at consistent intervals. We also discussed our intent to align the compliance times for incorporation of those ICA into operators' maintenance programs. This would have allowed operators to accomplish their maintenance program revisions for both initiatives at one time.

³ 70 FR 58508.

When we originally drafted the EAPAS/FTS proposal, we aligned the compliance dates at December 16, 2008, assuming we would issue the final rule by mid-2006. This would have allowed operators enough time to meet the 2008 compliance date for both fuel tank system and EWIS ICA. However, we also realized the EAPAS/FTS rulemaking could take longer than expected, so we asked for comments about the possible impact on the compliance times. The comment period for the proposal closed on February 3, 2006. We are currently reviewing the comments to the proposal; we anticipate that we will not issue a final rule that will respond to those comments for several months. If we were to keep the compliance times aligned, we would need to extend the December 16, 2008 date to coincide with the compliance date of the EAPAS final rule. After studying the impact of delays in issuing the October 2005 EAPAS/FTS proposal, and after reviewing the comments related to compliance dates, we have determined that public safety would not be served by extending implementation of the fuel tank safety operational rules beyond the December 16, 2008 date. Also, since adoption of the May 7, 2001 final rule, specifically SFAR 88, DAHs have had enough time to develop the required fuel tank system ICA and make them available to operators.

Therefore, for the reasons stated, we have decided not to maintain the alignment of the fuel tank system and EWIS compliance times specified in the EAPAS/FTS proposal. Today's action gives industry notice that the December 16, 2008 date for compliance with the fuel tank safety operational rules remains firm.

While alignment of the fuel tank system and EWIS ICA compliance dates is no longer practical, coordination of the maintenance tasks contained in the ICA is still desirable and possible. Therefore, it remains our intent to fully coordinate these tasks to avoid possible conflicts, remove redundancies, and provide maximum efficiency to accomplish them.

We are still evaluating the appropriate compliance date for implementation of the EWIS ICA and will provide that date in the EAPAS final rule.

Issued in Washington, DC, June 29, 2006.
John M. Allen,
Acting Director, Flight Standards Service.
Dorenda D. Baker,
Acting Director, Aircraft Certification Service.

[FR Doc. E6-10596 Filed 7-6-06; 8:45 am]

BILLING CODE 4910-13-P